DEPARTMENT OF TRANSPORTATION

National Highway Traffic Safety Administration

49 CFR Part 583

[Docket No. NHTSA 03-15125; Notice 1]

RIN 2127-AA03

Crashworthiness Ratings

AGENCY: National Highway Traffic Safety Administration (NHTSA), DOT.

ACTION: Termination of proposed rulemaking.

SUMMARY: This document terminates a proposed rulemaking in which we had considered establishing a crashworthiness performance ratings program for new motor vehicles. Under the contemplated program, for which the agency issued a notice of proposed rulemaking in 1981, information would have been developed by manufacturers on the ability of their vehicles to protect occupants in high speed crashes and made available to the public via window stickers on new motor vehicles. The NPRM raised the alternative possibility that the agency, instead of the manufacturers, would generate the information.

We are terminating this proposed rulemaking because it has been overtaken by events. During the years since 1981, we have continued to develop and expand our New Car Assessment Program (NCAP). Under the NCAP program, the agency generates the kinds of information that would have been provided by the proposed crashworthiness performance ratings program. Ratings are available for front and side impact crashworthiness. They are also now available for rollover resistance. Additional ratings are under development for dynamic rollover, braking and lighting.

FOR FURTHER INFORMATION CONTACT: The following persons at the National Highway Traffic Safety Administration, 400 Seventh Street, SW., Washington, DC, 20590:

For technical issues: Mary Versailles, Office of Rulemaking, telephone (202) 366-2057.

For legal issues: Edward Glancy, Office of the Chief Counsel, telephone (202) 366-2992.

SUPPLEMENTARY INFORMATION: On January 22, 1981, we published (46 FR 7025) a notice of proposed rulemaking (NPRM) to establish a new vehicle crashworthiness performance ratings program. We already had a regulation requiring that consumers be provided with crash avoidance information, e.g., braking performance, but did not have any comparable measures for providing crashworthiness information. The idea underlying the proposal was to supplement the agency's minimum crashworthiness standards with a program using market forces to encourage the manufacture of safer automobiles. It was anticipated that the information would not only aid consumers in making better informed purchasing decisions, but also competition among automobile manufacturers in the design of safer products. We noted several studies indicating that consumers were significantly interested in vehicle crashworthiness performance and that their purchasing decisions would be influenced by information about the performance of different models.

Under the contemplated program, information would have been developed by manufacturers on the ability of their new vehicles to protect occupants in high-speed crashes and made available to the public via window stickers. The primary element of the proposed regulation was to be a requirement for manufacturers to disclose to prospective purchasers whether or not their vehicles conform to the belted occupant protection criteria of Standard No. 208, Occupant Crash Protection, when tested under the frontal fixed rigid barrier crash procedures of that safety standard, but at a speed of 35 mph instead of the 30 mph speed specified in the standard.

Since publishing the NPRM for crashworthiness ratings in 1981, we have retained an entry for this rulemaking in the Regulatory Agenda. However, this rulemaking has long been overtaken by events.

Since 1981, we have significantly developed and expanded our New Car Assessment Program (NCAP). As part of this program, the agency, not the manufacturers, annually subjects selected cars, light trucks, sport utility vehicles, and vans to frontal and side crash tests, with particular focus on models that are new, popular, redesigned, or have improved safety equipment. These vehicles are then rated on how well they protect drivers and passengers during those frontal and side collisions. We use a five star system for rating vehicles. We provide the ratings to the public through a variety of means, including press releases, the NHTSA website, and an annual publication titled “Buying a Safer Car.” That publication provides the public with a variety of valuable information on crash tests, safety features and buying tips.

Through the expanded NCAP program, we are accomplishing the goals we sought in proposing the crashworthiness performance ratings program. Our monitoring of test scores and ratings from year to year indicates that the manufacturers do modify their vehicles in response to the NCAP ratings and sometimes prominently feature those ratings in their advertising.

During the 1990's, we expanded our Regulatory Agenda entry for the crashworthiness ratings rulemaking to include a discussion of our publication of a request for comments summarizing a 1996 study by the National Academy of Sciences (NAS) titled “Shopping for Safety—Providing Consumer Automotive Safety Information.” (62 FR 27648, May 20, 1997.) The NAS study made a number of recommendations to NHTSA on ways to improve automobile safety information for consumers. Our 1997 notice requested comments on our response to the recommendations of the NAS study and on programs we had begun or were considering to address those recommendations.

For the long term, the NAS study recommended the development of an overall measure combining the relative importance of crashworthiness ¹ and crash avoidance ² features for a vehicle. The study recognized that, for the foreseeable future, summary measures of crashworthiness and crash avoidance must be presented separately due to differences in current levels of knowledge, and differences in the roles of vehicle and driver in the two areas. For the immediate future, the NAS study recommended that the agency develop a summary measure of a vehicle's crashworthiness that incorporates quantitative information supplemented with the professional judgment of automotive experts, statisticians, and decision analysts. According to the recommendation, NHTSA should provide information with this measure to reflect the range of uncertainty in those judgments. For crash avoidance, the study recommended the development of a checklist of features for the near future.

¹ Crashworthiness refers to a vehicle's ability to protect occupants from serious injury or death when a crash occurs.

² Crash avoidance refers to a vehicle's ability to prevent a crash from occurring.

In our 1997 Request for Comments, we said we would study the possibility of combining frontal NCAP and side impact NCAP ratings into a single rating, as a first step toward a summary crashworthiness rating. We requested comments on a number of possible approaches to exploring the NAS study recommendation that a comprehensive crashworthiness rating be developed. These approaches included:

• A Federal Advisory Committee to develop a method that the agency or others could use to “rate” new vehicles. Such method would indicate what quantitative information should be used (both from NHTSA and from other sources), how such information should be combined, and how such information would be supplemented with expert judgement.

• A negotiated rulemaking under which NHTSA would agree to propose a new consumer information regulation.

• Development of a standard means by which manufacturers would establish the degree to which a specific vehicle make/model exceeded the minimum requirements in the safety standards.

We also indicated that we believed the development of some comparative crash avoidance information was possible.

Commenters on the 1997 Request for Comments indicated little support for combining the frontal NCAP and side impact NCAP scores into a single rating. They expressed concerns about the compatibility of the two ratings programs, since frontal NCAP scores cannot be combined across weight classes, while side impact NCAP scores can. As a result, we did not pursue this option any further.

Commenters also expressed concern about other aspects of the NAS study recommendation for a summary rating. In particular, commenters generally did not support the use of expert judgment to supplement gaps in available quantitative information.

Since the publication of the 1997 Request for Comments, we have greatly expanded the scope of information that consumers can use to evaluate the relative safety of new vehicles. Ratings are available for not only front and side impact crashworthiness, but also rollover resistance. Additional ratings are under development for dynamic rollover, braking and lighting. Information on safety features in the “Buying a Safer Car” brochure has expanded from four features with the first issue to 22 features in the 2002 issue. Information on an additional four features is available on NHTSA's website, which has been greatly expanded and improved since the 1997 Request for Comments. In addition, the brochure and web site provide information on the importance of vehicle weight and on the relative rate of occurrence of front and side crashes to help consumers weigh the relative importance of the available information without a summary rating.

With the introduction of Rollover Resistance Ratings in 2001, we once again began looking at the idea of a summary rating, to see if the addition of this quantitative information would address some of the commenter concerns from 1997. However, with Congress' mandate to conduct research on a dynamic rollover rating to supplement the Rollover Resistance Ratings, we decided to postpone beginning work on a possible summary rating until after that research was completed. Until we finish research on dynamic rollover, braking and lighting, we will not return to consideration of a summary rating.

While we may develop a summary rating in the future, it will not be in the context of the 1981 proposal. Any summary rating that might be developed would be vastly different than what would have been done under that proposal. First, it would likely include consideration of factors beyond crash protection. Second, such a rating would be developed and distributed by NHTSA rather than by vehicle manufacturers. Consumer research conducted over the years indicates that consumers are more likely to take into consideration safety information provided by a neutral party, with the government being regarded as a source that is unbiased and trustworthy.

For all of the reasons discussed above, we are terminating the 1981 proposed rulemaking for a vehicle crashworthiness performance ratings program.

Issued: July 11, 2003.
Stephen R. Kratzke,
Associate Administrator for Rulemaking.

[FR Doc. 03-18596 Filed 7-23-03; 8:45 am]

BILLING CODE 4910-59-P